FEDERAL COMMUNICATIONS COMMISSION

Notice of Public Information Collection(s) Being Submitted to OMB for Review and Approval

December 23, 2002.

SUMMARY: The Federal Communications Commissions, as part of its continuing effort to reduce paperwork burden invites the general public and other Federal agencies to take this opportunity to comment on the following information collection, as required by the Paperwork Reduction Act of 1995, Pub. L. 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before February 27, 2003. If you anticipate that you will be submitting comments, but find it difficult to do so within the period of time allowed by this notice, you should advise the contact listed below as soon as possible.

ADDRESSES: Direct all comments to Les Smith, Federal Communications Commission, Room 1-A804, 445 12th Street, SW., Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control Number: 3060-0010.

Title: Local Franchising Authority.

Form Number: FCC 323.

Type of Review: Revision of a currently approved collection.

Respondents: State, local, or tribal Governments.

Number of Respondents: 2,000.

Estimated Time per Response: 0.5 to 1.5 hours.

Frequency of Response: On occasion, biennial, and/or upon renewal reporting requirements.

Total Annual Burden: 2,750 hours.

Total Annual Cost: $2,163,000.

Needs and Uses: Each permittee of a commercial AM, FM, TV, and international broadcast station must file FCC Form 323, Ownership Report, within 30 days of the FCC granting their application for an original construction permit, the consummation, pursuant to FCC consent, of a transfer of control or an assignment of license, and/or when they file their station's license renewal applications and every two years thereafter. A permittee/licensee must also file a report or to certify the accuracy of the current report on file, in lieu of filing a new report, when the permitted applies for a station license, or whenever there is a current and unamended FCC Form 323 on file at the FCC. Data on FCC Form 323 help to determine whether the licensee/permittee meets the FCC's multiple ownership requirements and complies with the Communications Act. The form's race/ethnicity/gender question indicates current minority and female ownership of broadcast facilities and the efficacy of FCC Rules to promote opportunities for small businesses and minority and female-owned businesses in the broadcasting industry.

OMB Control Number: 3060-0550.

Title: Local Franchising Authority.

Form Number: FCC 328.

Type of Review: Revision of a currently approved collection.

Respondents: State, local, or tribal Governments.

Number of Respondents: 20.

Estimated Time per Response: 0.5 hours.

Frequency of Response: One time reporting requirement; Third party disclosure.

Total Annual Burden: 20 hours.

Total Annual Cost: None.

Needs and Uses: The FCC developed FCC Form 328 to provide a standardized, simple form for Local Franchise Authorities (LFAs) to use when requesting certification. The Commission uses the data derived from the Form 328 filing to ensure that the LFA has met the criteria specified in section 3(a) of the Cable Television Consumer Protection Act of 1992 for regulating basic cable service rates. The Commission has made several modifications to Form 328 to update it.

OMB Control Number: 3060-1015.

Title: Ultra Wideband Transmission Systems Operating Under part 15.

Form Number: N/A.

Type of Review: Extension of a currently approved collection.

Respondents: Business or other for-profit entities.

Number of Respondents: 500.

Estimated Time per Response: 2 hours.

Frequency of Response: On occasion reporting requirement; Third party disclosure.

Total Annual Burden: 1,000 hours.

Total Annual Cost: None.

Needs and Uses: 47 CFR 15.2525 requires operators of Ultra Wideband (UWB) transmission systems to coordinate their operations to avoid interference with sensitive U.S. government radio systems. Initial operation in a particular area may not commence until authorized by the FCC. The UWB operators must provide the name, address, and other pertinent contact information of the user, the desired geographical area of operation, the FCC ID number, time period during which operations will take place, and other nomenclature of the UWB device. The FCC collects this information and forwards it to the National Telecommunications and Information Administration (NTIA under the U.S. Department of Commerce). This information collection is essential to control potential interference to Federal radio communications. (Please note that on June 12, 2002, OMB approved this collection under the “emergency processing” provisions of the Paperwork Reduction Act of 1995, 44 U.S.C. 3507.)

Federal Communications Commission.
Marlene H. Dortch,
Secretary.

[FR Doc. 03-1845 Filed 1-27-03; 8:45 am]

BILLING CODE 6712-01-P